DEPARTMENT OF COMMERCE

National Oceanic and Atmospheric Administration

[RTID 0648-XF119]

Marine Mammals; File No. 29122

AGENCY: National Marine Fisheries Service (NMFS), National Oceanic and Atmospheric Administration (NOAA), Commerce.

ACTION: Notice; receipt of application.

SUMMARY: Notice is hereby given that Pacific Whale Foundation, 300 Ma'alaea Road, Suite 211, Wailuku, HI, 96793 (Responsible Party: Selket Kaufman), has applied in due form for a permit to conduct commercial and educational photography on marine mammals.

DATES: Written comments must be received on or before September 29, 2025.

ADDRESSES: These documents are available upon written request via email to NMFS.Pr1Comments@noaa.gov.

Written comments on this application should be submitted via email to NMFS.Pr1Comments@noaa.gov. Please include File No. 29122 in the subject line of the email comment.

Those individuals requesting a public hearing should submit a written request via email to NMFS.Pr1Comments@noaa.gov. The request should set forth the specific reasons why a hearing on this application would be appropriate.

FOR FURTHER INFORMATION CONTACT: Erin Markin, Ph.D., or Shasta McClenahan, Ph.D., (301) 427-8401.

SUPPLEMENTARY INFORMATION: The subject permit is requested under the authority of the Marine Mammal Protection Act of 1972, as amended (MMPA; 16 U.S.C. 1361 et seq.), and the regulations governing the taking and importing of marine mammals (50 CFR part 216).

The applicant proposes to film up to 232 humpback whales (Megaptera novaeangliae) in Hawaii for a wildlife documentary. Filming may occur from a vessel, underwater pole camera, and unmanned aircraft system. Fifty bottlenose (Tursiops truncatus), 50 spinner (Stenella longirostris), and 50 pantropical spotted (S. attenuata) dolphins may be filmed while interacting with humpback whales. The permit would be valid through April 2028.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 26, 2025.
Shannon Bettridge,
Chief, Marine Mammal and Sea Turtle Conservation Division, Office of Protected Resources, National Marine Fisheries Service.

[FR Doc. 2025-16580 Filed 8-28-25; 8:45 am]

BILLING CODE 3510-22-P